DEPARTMENT OF TRANSPORTATION

Office of the Secretary

[Docket ID Number: DOT-OST-2010-0140]

Notice of Submission of Proposed Information Collection to OMB

AGENCY: Office of the Secretary, Department of Transportation.

ACTION: Notice and request for comments.

SUMMARY: In accordance with the Paperwork Reduction Act of 1995 (PRA), as amended, this notice announces the Department of Transportation's (Department or DOT) intention to renew Office of Management and Budget (OMB) Control Number 2105-0561 for the collection and posting of certain aviation consumer protection-related information from U.S. carriers and foreign carriers. The subject information collections relate to requirements in the Code of Federal Regulations (CFR) for the development and auditing of carrier customer service plans, reporting of tarmac delays, display of on-time performance, and the posting of various consumer protection documents on carrier websites. The Control Number is set to expire on August 31, 2024, unless renewed.

DATES: Comments on this notice must be received by July 22, 2024. Interested persons are invited to submit comments regarding this proposal.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, West Building Ground Floor, Room W12-140, Washington, DC 20590-0001.

• Hand delivery or Courier: West Building Ground Floor, Room W12-140, 1200 New Jersey Ave. SE, between 9 a.m. and 5 p.m., Monday through Friday, except Federal holidays. Commenters using this method of delivery should contact Docket Services at 202-366-9826 or 202-366-9317 before delivery to ensure staff is available to receive the delivery.

• Instructions: You must include the agency name and docket number DOT-OST-2010-0140 at the beginning of your comment. All comments received will be posted without change to https://www.regulations.gov, including any personal information provided.

• Privacy Act: Anyone can search the electronic form of all comments received in any of our dockets by the name of the individual submitting the comment (or signing the comment, if submitted on behalf of an association, business, labor union, etc.). For information on DOT's compliance with the Privacy Act, please visit www.transportation.gov/privacy.

• Docket: For access to the docket to read background documents or comments received, go to https://www.regulations.gov and follow the online instructions for accessing the docket.

FOR FURTHER INFORMATION CONTACT: Alexa Strong or Hannah Cohen, Office of the Secretary, Office of Aviation Consumer Protection (C-70), U.S. Department of Transportation, 1200 New Jersey Ave. SE, Washington, DC 20590, at Alexa.Strong@dot.gov, 202-768-3269 or Hannah.Cohen@dot.gov, 202-641-3623. Arrangements to receive this document in an alternative format may be made by contacting the above-named individuals.

SUPPLEMENTARY INFORMATION:

Title: Submission of Miscellaneous Information Collection Systems as Required by the Department's Rules to Enhance Airline Passenger Protections.

OMB Control Number: 2105-0561.

On Dec. 30, 2009 and April 25, 2011, the Department issued two rules to enhance airline passenger protections that, among other things, required U.S. and foreign carriers to adopt and audit a customer service plan, retain information regarding tarmac delays, submit data regarding tarmac delays, and post tarmac delay plans, customer service plans, and contracts of carriage on their websites. The 2009 rule also required U.S. carriers that file on-time performance reports under 14 CFR part 234 (“reporting carriers”) to display the on-time performance of domestic flights on their websites. A 2016 rule then expanded the definition of U.S. carriers considered reporting carriers.

On May 3, 2021, the Department issued a rule amending its tarmac delay requirements. Among other things, the rule narrowed the tarmac delay data reporting requirements in 14 CFR part 244 to those delays considered “excessive tarmac delays” (i.e., those tarmac delays exceeding 3 hours on domestic flights and 4 hours on international flights). The amended rule also required carriers to file a narrative report regarding such tarmac delays and eliminated the requirement to retain the delay information for two years.

Currently, the Department's Office of Aviation Consumer Protection (OACP) is finalizing development of the Aviation Complaint, Enforcement, and Reporting System (ACERS), a database that it intends to require carriers to use when submitting tarmac delay information as required under 14 CFR part 259. ACERS will help streamline the process by which OACP receives, reviews, and analyzes the narrative reports submitted by carriers.

A Federal agency generally cannot conduct or sponsor a collection of information, and the public is generally not required to respond to an information collection, unless it is approved by OMB under the PRA and displays a currently valid OMB Control Number. In addition, notwithstanding any other provisions of law, no person shall generally be subject to penalty for failing to comply with a collection of information if the collection of information does not display a valid OMB Control Number. See 5 CFR 1320.5(a) and 1320.6.

This notice addresses five information collection requirements set forth in the Department's airline passenger protection rules: (1) posting of tarmac delay plans, customer service plans, and contracts of carriage on carrier websites, (2) submission of a narrative report regarding tarmac delays that last over three hours for domestic flights and four hours for international flights, (3) adoption and audit of customer service plans and retention of results, (4) display of on-time performance data on carrier websites, and (5) submission of a data report for tarmac delays that last over three hours for domestic flights and four hours for international flights. It seeks renewal of the OMB control number with respect to all information collections set forth in this notice. For each of these information collections, the title, a description of the respondents, and an estimate of the annual recordkeeping and periodic reporting burdens are set forth below:

1. Requirement to post tarmac delay plans, customer service plans, and contracts of carriage on a carrier's website. (14 CFR 259.2 and 259.6)

Title: Posting of Tarmac Delay Plan, Customer Service Plan, and Contract of Carriage on website.

Respondents: U.S. carriers that operate scheduled passenger or public charter service and foreign air carriers operating scheduled passenger or public charter service to or from the United States, using any aircraft with a designed seating capacity of 30 or more seats. Applicable to U.S. carriers that have a website and foreign carriers that have a website marketed toward U.S. consumers.

Estimated Number of Respondents: 44 U.S. air carriers and 112 foreign air carriers.

Estimated Total Burden on Respondents: 65 hours (3,900 minutes, average of 25 minutes per carrier to post plans and contracts of carriage on website). The burden calculation accounts for additional time carriers may spend updating the contents of their customer service plans.

Frequency: One time per respondent.

2. Requirement to file a narrative report with OACP of each flight that experiences a tarmac delay of more than three hours (domestic flights) and more than four hours (international flights). (14 CFR 259.4(g))

Title: Reporting of Tarmac Delays in a Narrative Format That Complies with 49 U.S.C. 42301(h).

Respondents: U.S. Carriers that operate scheduled passenger service or public charter service using any aircraft with 30 or more seats, and foreign air carriers that operate scheduled passenger or public charter service to and from the United States using any aircraft with 30 or more seats.

Estimated Number of Respondents: 44 U.S. air carriers and 112 foreign air carriers.

Estimated Annual Burden on Respondents: 2 hours per report for U.S. carriers and 4 hours per report for foreign carriers. The expected burden per U.S. carrier is between 0 and 147 reports per year, and the expected burden per foreign carrier is between 0 and 2 reports per year (based on the highest annual number of tarmac delays experienced by a single U.S. and foreign carrier from 2022 and 2023), or 0.0 to 294.0 hours of burden per U.S. carrier and 0.0 to 8.0 hours of burden per foreign carrier.

Estimated Total Annual Burden: Based on the average number of tarmac delay reports filed with OACP by each type of carrier from 2022 through 2023, 358 reports for U.S. carriers and 10 reports for foreign carriers, or a total of 756 hours (358 reports multiplied by 2 hours per report for U.S. carriers, and 10 reports multiplied by 4 hours for foreign carriers).

Frequency: One report per respondent for each tarmac delay.

3. Requirement that certain U.S. and foreign air carriers adopt a Customer Service Plan and retain for two years the results of its annual self-audit of its compliance with its Customer Service Plan. (14 CFR 259.2 and 259.5)

Title: Adopting a Customer Service Plan and Retaining Self-audit of Customer Service Plan.

Respondents: U.S. carriers that operate scheduled passenger service using any aircraft with a designed seating capacity of 30 or more seats, and foreign air carriers that operate scheduled passenger service to and from the United States using any aircraft with a designed seating capacity of 30 or more seats.

Number of Respondents: 44 U.S. air carriers and 112 foreign air carriers.

Estimated Annual Burden on Respondents: 15 minutes per year for each respondent. The estimate was calculated by multiplying the estimated time for carriers to maintain an updated Customer Service Plan and to retain a copy of the carrier's self-audit of its compliance with its Customer Service Plan by the number of audits per carrier in a given year (1). The initial costs of adopting a Customer Service Plan are not included in this estimate as most covered carriers initially adopted such plans when the requirement was promulgated in 2009 (for U.S. carriers) and 2011 (for foreign carriers).

Estimated Total Annual Burden: A maximum of 39 hours (2,340 minutes) for all respondents. The estimate was calculated by multiplying the time in a given year for each carrier to maintain an updated Customer Service Plan and to retain a copy of its self-audit of its compliance with its Customer Service Plan (15 minutes) by the total number of covered carriers (156 carriers).

Frequency: One information set to maintain and retain per year for each respondent.

4. Requirement that each large U.S. carrier display on its website, at a point before the consumer selects a flight for purchase, the following information for each listed flight regarding its on-time performance during the last reported month: The percentage of arrivals that were on time (within 15 minutes of scheduled arrival time), the percentage of arrivals that were more than 30 minutes late (with special highlighting if the flight was more than 30 minutes late more than 50 percent of the time), and the percentage of flight cancellations if the flight is cancelled more than 5% of the time. In addition, the requirement that a marketing/reporting carrier display delay data for its non-reporting codeshare carrier(s). (14 CFR 234.11)

Title: Displaying On-time performance Information on Carrier website.

Respondents: U.S. carriers that operate scheduled passenger service that account for at least 0.5 percent of domestic scheduled passenger revenue and that market flights directly to consumers via a website.

Number of Respondents: 15 carriers.

Estimated Annual Burden on Respondents: 2 hours per month (24 hours annually) to cover both updates of a carrier's own delay data and updates of code-share delay data.

Estimated Total Annual Burden: No more than 360 hours (21,600 minutes) a year for all respondents. The estimate was calculated by multiplying the total number of hours per carrier per year for management of data links (24) by the number of covered carriers (15).

Frequency: Updating information for each flight listed on website 12 times per year (1 time per month) for each respondent (for both a carrier's own delay data and code-share delay data).

5. Requirement that carriers report certain tarmac delay data to BTS for each tarmac delay exceeding 3 Hours (for domestic flights) and exceeding 4 Hours (for international flights). (14 CFR 244.3)

Title: Reporting Tarmac Delay Data to BTS for Tarmac Delays Exceeding 3 Hours (for Domestic Flights) and 4 Hours (for International Flights).

Respondents: U.S. carriers that operate scheduled passenger service or public charter service using any aircraft with 30 or more seats, and foreign air carriers that operate scheduled passenger or public charter service to and from the United States using any aircraft with 30 or more seats.

Number of Respondents: 44 U.S. air carriers and 112 foreign air carriers.

Estimated Annual Burden on Respondents: 30 minutes per report filed. The expected burden per U.S. carrier is between 0 and 147 reports per year, and the expected burden per foreign carrier is between 0 and 2 reports per year (based on the highest and lowest number of reports submitted by each individual U.S. and foreign carrier from 2022 and 2023), or 0.0 to 73.5 hours of burden per U.S. carrier and 0.0 to 1.0 hours of burden per foreign carrier.

Estimated Total Annual Burden: Based on an average number of tarmac delays reported to BTS for 2022 and 2023, the estimated annual burden is 368 reports for U.S. carriers and foreign carriers, or a total of 184 hours (368 reports multiplied by 30 minutes per report).

Frequency: One report per respondent for each tarmac delay.

We invite comments on (a) whether the collection of information is necessary for the proper performance of the functions of DOT, including whether the information will have practical utility; (b) the accuracy of DOT's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record on the docket.

Authority: The Paperwork Reduction Act of 1995; 44 U.S.C. chapter 35, as amended; and 49 CFR 1.26, 1.27, 1.48 and 1.49; DOT Order 1351.29.

Issued in Washington, DC.
Livaughn Chapman, Jr.,
Deputy Assistant General Counsel, Office of Aviation Consumer Protection.

[FR Doc. 2024-11140 Filed 5-20-24; 8:45 am]

BILLING CODE 4910-9X-P